DEPARTMENT OF STATE

[Public Notice: 11000]

Culturally Significant Objects Imported for Exhibition—Determinations: “Signs and Wonders: The Photographs of John Beasley Greene” Exhibition

ACTION: Notice; Correction.

SUMMARY: On June 28, 2019, notice was published on page 31134 of the Federal Register (volume 84, number 125) of determinations pertaining to certain objects to be included in an exhibition entitled “Signs and Wonders: The Photographs of John Beasley Greene.” The referenced notice is hereby corrected as to the expected closing date of the exhibition or display of the exhibit objects at The Art Institute of Chicago, which is on or about May 31, 2020. I have ordered that Public Notice of the correction of the closing date at The Art Institute of Chicago be published in the Federal Register.

DATES: This notice was initially issued on June 28, 2019.

FOR FURTHER INFORMATION CONTACT: Chi D. Tran, Paralegal Specialist, Office of the Legal Adviser, U.S. Department of State (telephone: 202-632-6471; email: section2459@state.gov). The mailing address is U.S. Department of State, L/PD, SA-5, Suite 5H03, Washington, DC 20522-0505.

Marie Therese Porter Royce,
Assistant Secretary, Bureau of Educational and Cultural Affairs, Department of State.

[FR Doc. 2020-00409 Filed 1-14-20; 8:45 am]

BILLING CODE 4710-05-P